DEPARTMENT OF ENERGY

Federal Energy Regulatory Commission

[Docket No. EL11-14-000]

AES Wind Generation, Inc. v. California Independent System Operator Corporation; Notice of Complaint and Notice Shortening Date for Filing Answers to Motion for Stay

January 3, 2011.

Take notice that on December 30, 2010, AES Wind Generation, Inc. (AES Wind), pursuant to Rule 206 of the Rules of Practice and Procedure of the Federal Energy Regulatory Commission (Commission), 18 CFR 385.206 (2010) and sections 206 and 306 of the Federal Power Act, 16 U.S.C. 824e and 825e (2006), filed a complaint against the California Independent System Operator Corporation (CAISO or Respondent), concerning the requirement that AES Wind post its second financial security for transmission upgrades identified in the CAISO's Phase II interconnection study. Included in the complaint filing was a Motion for Stay of the date by which AES Wind is required to post its second financial security for the CAISO Transition Cluster.

By this notice, the date for filing answers to the Motion for Stay is shortened to and including January 6, 2011.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 19, 2011.

Kimberly D. Bose,
Secretary.

[FR Doc. 2011-187 Filed 1-7-11; 8:45 am]

BILLING CODE 6717-01-P